DEPARTMENT OF THE TREASURY

Revision of Information Collection Request Submitted for Public Comment; Comment Request on Burden Related to U.S. Income Tax Return Forms for Individual Taxpayers

AGENCY: Departmental Offices, U.S. Department of the Treasury.

ACTION: Notice.

SUMMARY: The Internal Revenue Service, as part of its continuing effort to reduce paperwork and respondent burden, invites the public and other Federal agencies to take this opportunity to comment on proposed and/or continuing information collections, as required by the Paperwork Reduction Act of 1995. Currently, the IRS is soliciting comments concerning the burden associated with the U.S. Income Tax Return Forms for Individual Taxpayers.

DATES: Comments should be received on or before January 21, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

Title: U.S. Income Tax Return for Individual Taxpayers.

OMB Number: 1545-0074.

Form Numbers: Form 1040 and affiliated return forms.

Abstract: IRC sections 6011 & 6012 of the Internal Revenue Code require individuals to prepare and file income tax returns annually. These forms and related schedules are used by individuals to report their income subject to tax and compute their correct tax liability. This information collection request (ICR) covers the actual reporting burden associated with preparing and submitting the prescribed return forms, by individuals required to file Form 1040 and any of its affiliated forms as explained in the attached table.

Current Actions: There have also been changes in regulatory guidance related to various forms approved under this approval package during the past year. There have been additions and removals of forms included in this approval package. In filing season 2025, the Internal Revenue Service (IRS) will continue to employ its free direct e-file tax return system (Direct File) as an optional service available to taxpayers with supported tax situations.

Type of Review: Revision of a currently approved collection.

Affected Public: Individuals or Households, Farms.

Estimated Number of Respondents: 168,800,000.

Estimated Time per Respondent (Hours): 12 hrs. 37 mins.

Estimated Total Annual Time (Hours): 2,129,000,000.

Estimated Total Annual Monetized Time ($): 44,997,000,000.

Estimated Out-of-Pockets Costs ($): 48,683,000,000.

Estimated Total Monetized Burden ($): 93,680,000,000.

Note: Total Monetized Burden = Total Out-of-Pocket Costs + Total Annual Monetized Time.

Tax Compliance Burden

Tax compliance burden is defined as the time and money taxpayers spend to comply with their tax filing responsibilities. Time-related activities include recordkeeping, tax planning, gathering tax materials, learning about the law and what you need to do, and completing and submitting the return. Out-of-pocket costs include expenses such as purchasing tax software, paying a third-party preparer, and printing and postage. Tax compliance burden does not include a taxpayer's tax liability, economic inefficiencies caused by sub-optimal choices related to tax deductions or credits, or psychological costs.

Table 1—Fiscal Year 2025 Estimated Average Taxpayer Burden for Individuals Filing a 1040 by Activity
Primary form filed or type of taxpayer | Primary form filed or type of taxpayer: Percentage of returns | Time burden: Average time burden (hours): Total time | Time burden: Average time burden (hours): Recordkeeping | Time burden: Average time burden (hours): Tax planning | Time burden: Average time burden (hours): Form completion and submission | Time burden: Average time burden (hours): All other | Money burden: Average cost (dollars) | Money burden: Total monetized burden (dollars)
All Taxpayers | 100 | 13 | 5 | 3 | 4 | 1 | $290 | $560
Type of Taxpayer:
Nonbusiness * | 71 | 8 | 3 | 1 | 3 | 1 | 160 | 310
Business * | 29 | 24 | 11 | 5 | 6 | 2 | 620 | 1,170
Note: Detail may not add to total due to rounding. Dollars rounded to the nearest $10.
*A “business” filer files one or more of the following with Form 1040: Schedule C, E, F, or Form 2106. A “nonbusiness” filer does not file any of these schedules or forms with Form 1040.
Source: IRS:RAAS:KDA:TBL (11-25-2024).

Table 2—Fiscal Year 2025 Taxpayer Burden Statistics by Total Positive Income Quintile
Total positive income quintiles | Average time (hours) | Average out-of-pocket costs | Average total monetized burden
All Filers
0 to 20 | 7.8 | $80 | $146
20 to 40 | 10.9 | 128 | 242
40 to 60 | 11.6 | 165 | 327
60 to 80 | 13.1 | 232 | 480
80 to 100 | 22.7 | 726 | 1,497
Wage and Investment Filers
0 to 20 | 6.9 | 71 | 129
20 to 40 | 9.3 | 112 | 212
40 to 60 | 9.0 | 139 | 277
60 to 80 | 9.1 | 185 | 384
80 to 100 | 10.8 | 322 | 737
Self Employed Filers
0 to 20 | 11.9 | 125 | 225
20 to 40 | 18.5 | 204 | 379
40 to 60 | 21.0 | 258 | 507
60 to 80 | 22.0 | 338 | 697
80 to 100 | 33.1 | 1,077 | 2,155
Source IRS:RAAS:KDA:TBL (11-25-2024).

(Authority: 44 U.S.C. 3501 et seq.)

Melody Braswell,
Treasury PRA Clearance Officer.

[FR Doc. 2024-30074 Filed 12-18-24; 8:45 am]

BILLING CODE 4830-01-P